ENVIRONMENTAL PROTECTION AGENCY

[Petition IV-2006-3; FRL-8732-8]

Clean Air Act Operating Permit Program; Petition for Objection to State Operating Permit for Louisville Gas and Electric Company—Trimble County Generating Station; Bedford (Trimble County), KY

AGENCY: Environmental Protection Agency (EPA).

ACTION: Notice of final order on petition to object to a state operating permit.

SUMMARY: Pursuant to Clean Air Act (CAA) Section 505(b)(2) and 40 CFR 70.8(d), the EPA Administrator signed a Partial Order, dated September 10, 2008, partially granting and partially denying a petition to object to a state operating permit issued by the Kentucky Division for Air Quality (KDAQ) to Louisville Gas and Electric Company (LG&E) for its Trimble County Generating Station located in Bedford, Trimble County, Kentucky. This Partial Order constitutes a final action on the petition submitted by Save the Valley, Sierra Club, and Valley Watch (Petitioners) on March 2, 2006. Pursuant to section 505(b)(2) of the CAA, any person may seek judicial review of the Order in the United States Court of Appeals for the appropriate circuit within 60 days of this notice under section 307(b) of the Act.

ADDRESSES: Copies of the Partial Order, the petition, and all pertinent information relating thereto are on file at the following location: EPA Region 4, Air, Pesticides and Toxics Management Division, 61 Forsyth Street, SW., Atlanta, Georgia 30303-8960. The Partial Order is also available electronically at the following address: http://www.epa.gov/region7/programs/artd/air/title5/petitiondb/petitions/lg&e_decision2006.pdf.

FOR FURTHER INFORMATION CONTACT: Art Hofmeister, Air Permits Section, EPA Region 4, at (404) 562-9115 or hofmeister.art@epa.gov.

SUPPLEMENTARY INFORMATION: The CAA affords EPA a 45-day period to review and, as appropriate, to object to operating permits proposed by state permitting authorities under title V of the Act, 42 U.S.C. 766 1-7661f. Section 505(b)(2) of the Act and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

Petitioners submitted the first of two petitions regarding the LG&E Trimble County Generating Station on March 2, 2006, requesting that EPA object to Revision 2 to the LG&E merged prevention of significant deterioration and title V operating permit. The second petition, regarding Revision 3 to the merged permit, was submitted on April 29, 2008. Pursuant to an agreement between EPA and the Petitioners, the September 10, 2008, Partial Order responded only to those issues raised in the March 2006 petition that were unaffected by Revision 3 to the LG&E permit. Thus, the September 10, 2008, Order is a partial order. EPA will be responding to the remainder of the issues raised in the two petitions by March 29, 2009, consistent with the agreement reached between EPA and the Petitioners. The September 10, 2008, Partial Order addresses the following issues where Petitioners allege that the merged permit is inconsistent with the CAA: (1) The mercury limits do not represent the best available control technology (BACT); (2) the opacity and visible emissions limits are not BACT; (3) the permit fails to contain conditions requiring BACT during periods of startup and shutdown; (4) the emission limits at various support facilities are not BACT; (5) the compliance provisions contained in the statement of basis are not a part of the permit; (6) the compliance assurance monitoring provisions related to volatile organic compound (VOC) limits are not adequate to ensure compliance; (7) the limits for toxic substances are not enforceable; (8) the limits for lead are not enforceable; (9) the limits for VOC are not enforceable; (10) “startup and shutdown” and “good combustion control” are not defined; and (11) the permit raises general concerns.

The September 10, 2008, Partial Order explains EPA's rationale for granting the petition with respect to the issues summarized in numerals 3 and 7, above. The Partial Order also describes the basis for denying the petition with respect to the remaining issues listed above.

A second partial order will follow that addresses the remaining outstanding issues from the March 2006 petition, as well as the April 2008 petition, and it will undergo the same Federal Register procedures as this Partial Order.

Dated: October 10, 2008.
J.I. Palmer, Jr.,
Regional Administrator, Region 4.

[FR Doc. E8-25163 Filed 10-22-08; 8:45 am]

BILLING CODE 6560-50-M